DEPARTMENT OF JUSTICE

Drug Enforcement Administration

21 CFR PART 1310

[DEA-203C]

RIN 1117-AA52

Establishment of a Threshold for Gamma-Butyrolactone; Correction

AGENCY: Drug Enforcement Administration (DEA), Justice.

ACTION: Notice of proposed rulemaking; correction.

SUMMARY: This document corrects the proposed rule “Establishment of a Threshold for Gamma-Butyrolactone” (DEA-203P) which DEA published in the Federal Register on October 24, 2001 (66 FR 53746). The proposed rule concerned the establishment of a threshold for the List I chemical gamma-butyrolactone (GBL).

For Further Information Contact: Frank L. Sapienza, Chief, Drug and Chemical Evaluation Section, Office of Diversion Control, Drug Enforcement Administration, Washington, DC 20537, Telephone (202) 307-7183

Supplementary Information:

Background

On Wednesday, October 24, 2001, DEA published a Notice of Proposed Rulemaking titled “Establishment of a Threshold for Gamma-Butyrolactone” in the Federal Register (66 FR 53746). The proposed regulations that are subject to this correction suggest adding new paragraphs at Title 21, Code of Federal Regulations (CFR), 1310.04(g)(1) and 21 CFR 1310.08. These paragraphs suggest that no threshold be established for GBL and that certain transactions in GBL be excluded from the definition of a regulated transaction, respectively. However, a previous Final Rule, published on Wednesday October 17, 2001, already added paragraphs at 21 CFR 1310.04(g)(1)(ii)-(iv) and 21 CFR 1310.08(j). Therefore, to alleviate any confusion which might arise by publication of this proposed rule, DEA is redesignating the text of the paragraphs in the proposed rule to align with the currently amended Code of Federal Regulations. No substantive changes to the proposed text are occurring in this correction. In addition, one typographical error is being corrected.

Accordingly, the publication on October 24, 2001 of the proposed rule (DEA-203P), which was the subject of FR Doc. 01-26741, is corrected as follows:

1. On page 53748, in the first column, sixth line of the fourth full paragraph correct “(ii)” to read “(iii)”.

PART 1310—[CORRECTED]

2. On page 53749, amendatory instruction 2 is corrected to read as follows: “2. Section 1310.04 is proposed to be amended by adding a new paragraph (g)(1)(v) to read as follows:”

3. Corrected § 1310.04(g)(1)(v) reads as follows:

§ 1310.04 Maintenance of records.

* * * * *

(g) * * *

(1) * * *

(v) gamma-Butyrolactone (Other names include: GBL; Dihydro-2(3H)-furanone; 1,2-Butanolide; 1,4-Butanolide; 4-Hydroxybutanoic acid lactone; gamma-Hydroxybutyric acid lactone)

* * * * *

4. On page 53749, amendatory instruction 3 is corrected to read as follows: “3. Section 1310.08 is proposed to be amended by adding a new paragraph (k) to read as follows:”

5. Corrected § 1310.08(k) reads as follows:

§ 1310.08 Excluded transactions.

* * * * *

(k) Domestic, import, and export distributions of gamma-butyrolactone weighing 16,000 kilograms (net weight) or more in a single container.

Dated: December 5, 2001.
Laura M. Nagel,
Deputy Assistant Administrator, Office of Diversion Control.

[FR Doc. 01-30731 Filed 12-11-01; 8:45 am]

BILLING CODE 4410-09-P